ENVIRONMENTAL PROTECTION AGENCY

40 CFR Parts 750 and 761

[EPA-HQ-OPPT-2007-0425; FRL-8150-6]

Transfer of Polychlorinated Biphenyl Cleanup and Disposal Program from the Office of Prevention, Pesticides and Toxic Substances to the Office of Solid Waste and Emergency Response

AGENCY: Environmental Protection Agency (EPA).

ACTION: Final rule.

SUMMARY: EPA is transferring the management of the polychlorinated biphenyl (PCB) cleanup program and most of the PCB disposal program from the Office of Prevention, Pesticides and Toxic Substances (OPPTS) to the Office of Solid Waste and Emergency Response (OSWER). This final rule is a rule of agency organization, procedure, or practice. It makes minor amendments to 40 CFR parts 750 and 761, to update certain titles, organization references, and mailing and website addresses so that required procedures for providing information and seeking approvals will be consistent with EPA’s new internal organization for managing the PCB program. OPPTS currently manages the PCB program under the Toxic Substances Control Act (TSCA) and its regulations. OSWER is the office within EPA that manages most cleanup and disposal activities under the Solid Waste Disposal Act, as amended by the Resource Conservation and Recovery Act of 1976 (RCRA) and the Comprehensive Environmental Response, Compensation, and Liability Act (CERCLA). After the administrative transfer is completed, OSWER will oversee most issues pertaining to PCB cleanup and disposal under TSCA, RCRA, and CERCLA, as appropriate; OPPTS will continue to oversee other issues pertaining to PCBs (e.g., issues pertaining to PCB use) under TSCA. The transfer of the management of the PCB cleanup and disposal program from OPPTS to OSWER will consolidate administration of cleanup and disposal activities within one office. The transfer will not make any substantive changes to the regulatory requirements or standards for PCB cleanup and disposal under TSCA.

DATES: This final rule is effective October 9, 2007.

ADDRESSES: EPA has established a docket for this action under docket identification (ID) number EPA-HQ-OPPT-2007-0425. All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Sara McGurk, National Program Chemicals Division (7404T), Office of Pollution Prevention and Toxics, Environmental Protection Agency, 1200 Pennsylvania Ave., NW., Washington, DC 20460-0001; telephone number: (202) 566-0480; e-mail address: mcgurk.sara@epa.gov.

Vernon Myers, Permits and State Programs Division, Office of Solid Waste (5303P), Environmental Protection Agency, 1200 Pennsylvania Ave., NW., Washington, DC 20460-0001; telephone number: (703) 308-8660; e-mail address: myers.vernon@epa.gov.

SUPPLEMENTARY INFORMATION:

I. General Information

You may be potentially affected by this action if you manufacture, process, distribute in commerce, use, cleanup, transport, store, or dispose of PCBs or materials containing PCBs. Potentially affected entities may include, but are not limited to:

• Oil and gas extraction (NAICS code 21111), e.g., operating or closed facilities that use, contain, or dispose of PCBs or PCB wastes.

• Electric power generation, transmission, and distribution (NAICS code 2211), e.g., operating or closed facilities that use, contain, or dispose of PCBs or PCB wastes.

• Construction (NAICS code 23), e.g., operating or closed facilities that use, contain, or dispose of PCBs or PCB wastes.

• Food manufacturing (NAICS code 311), e.g., operating or closed facilities that use, contain, or dispose of PCBs or PCB wastes.

• Paper manufacturing (NAICS code 322), e.g., operating or closed facilities that use, contain, or dispose of PCBs or PCB wastes.

• Petroleum and coal products manufacturing (NAICS code 324), e.g., operating or closed facilities that use, contain, or dispose of PCBs or PCB wastes.

• Chemical manufacturing (NAICS code 325), e.g., operating or closed facilities that use, contain, or dispose of PCBs or PCB wastes.

• Plastics and rubber manufacturing (NAICS code 326), e.g., operating or closed facilities that use, contain, or dispose of PCBs or PCB wastes.

• Primary metal manufacturing (NAICS code 331), e.g., operating or closed facilities that use, contain, or dispose of PCBs or PCB wastes.

• Machinery manufacturing (NAICS code 333), e.g., operating or closed facilities that use, contain, or dispose of PCBs or PCB wastes.

• Computer and electronics product manufacturing (NAICS code 334), e.g., operating or closed facilities that use, contain, or dispose of PCBs or PCB wastes.

• Electrical equipment, appliance, and component manufacturing (NAICS code 335), e.g., operating or closed facilities that use, contain, or dispose of PCBs or PCB wastes.

• Transportation equipment manufacturing (NAICS code 336), e.g., operating or closed facilities that use, contain, or dispose of PCBs or PCB wastes.

• Rail transportation (NAICS code 48211), e.g., operating or closed facilities that use, contain, or dispose of PCBs or PCB wastes.

• Lessors of real estate (NAICS code 5311), e.g., operating or closed facilities that use, contain, or dispose of PCBs or PCB wastes.

• Waste collection (NAICS code 5621), e.g., operating or closed facilities that use, contain, or dispose of PCBs or PCB wastes.

• Waste treatment and disposal (NAICS code 5622), e.g., operating or closed facilities that use, contain, or dispose of PCBs or PCB wastes.

• Remediation and other waste management services (NAICS code 5629), e.g., operating or closed facilities that use, contain, or dispose of PCBs or PCB wastes.

• Repair and maintenance (NAICS code 811), e.g., operating or closed facilities that use, contain, or dispose of PCBs or PCB wastes.

• Public administration (NAICS code 92), e.g., operating or closed facilities that use, contain, or dispose of PCBs or PCB wastes.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR parts 750 and 761. If you have any questions regarding the applicability of this action to a particular entity, consult the technical persons listed under FOR FURTHER INFORMATION CONTACT.

II. Background

A. What Action is the Agency Taking?

This final rule is an agency organization, procedure, or practice rule which amends 40 CFR parts 750 and 761 to replace certain OPPTS contact information with OSWER contact information. This final rule will not make substantive changes to the PCB regulations under TSCA. Rather it will amend the regulations to provide the appropriate contact information so that required procedures for providing information and seeking approvals will be consistent with EPA’s new internal organization for managing the PCB program. In the regulatory text, “EPA” is identified as the entity with decisionmaking authority for certain approvals or determinations. Specific EPA officials will be authorized to exercise these authorities on behalf of the Agency pursuant to internal delegations. Instructions for the submission of materials required for approvals and determinations are specifically set forth in the regulatory text.

This rule is necessary because EPA is transferring the management of the PCB cleanup program and most of the PCB disposal program from OPPTS to OSWER. Given OSWER’s role in ensuring environmentally sound waste storage, treatment, cleanup, and disposal, the administrative transfer will consolidate the administration and implementation of cleanup and disposal programs within that office, which will maximize the use of the Agency’s limited resources. EPA believes that the transfer of the PCB cleanup and disposal program from OPPTS to OSWER is a natural fit. Further, the transfer is consistent with EPA’s goals pursuant to the One Cleanup Program, which operates to improve the coordination, speed, and effectiveness of cleanups at the nation's contaminated sites, as well as the Agency’s overall goal to protect human health and the environment.

After the administrative transfer is completed, OSWER will oversee issues pertaining to PCB cleanup and disposal, storage for disposal, processing related to disposal, distribution in commerce related to disposal or processing for disposal, and decontamination under TSCA, RCRA, and CERCLA, as appropriate. OPPTS will continue to oversee issues pertaining to PCB use, storage for use or reuse, manufacture, processing related to manufacture and use, and distribution in commerce related to use or processing for use under TSCA. OSWER will implement PCB cleanup and disposal under TSCA and its regulations as they currently exist. Thus, PCB cleanup and disposal under TSCA will continue to be a federally implemented program. Where cleanup and disposal approvals and renewals are concerned, current approvals will continue as currently written and renewals will be processed as scheduled. OSWER will receive any new applications for cleanup and disposal approvals, renewals, or approval modifications beginning October 9, 2007.

OSWER and OPPTS have formed a transition team to facilitate the administrative transfer. OSWER will identify staff to take over specific PCB issues and sections of the regulations. Once identified, OSWER will post contact information on the PCB website, available at http://www.epa.gov/pcb.

In addition to facilitating the administrative transfer of the PCB cleanup and disposal program, this final rule makes minor amendments to 40 CFR part 761, to correct certain typographical errors and outdated information in OPPTS mailing addresses.

B. What is the Agency's Authority for Taking this Action?

This final rule is issued by OPPTS under its general rulemaking authority and TSCA, 15 U.S.C. 2601-2692. This final rule is not subject to the notice and comment requirements of the Administrative Procedure Act (APA) because this action falls under “rules of agency organization, procedure, or practice,” and the exception provided by 5 U.S.C. 553(b)(3)(A).

III. Statutory and Executive Order Reviews

A. Executive Order 12866: Regulatory Planning and Review

This final rule implements an administrative transfer of a portion of the PCB program from OPPTS to OSWER and amends 40 CFR parts 750 and 761. For those portions of the program remaining in OPPTS, this final rule also corrects certain OPPTS mailing addresses. This final rule does not otherwise impose or amend any requirements. As such, the Office of Management and Budget (OMB) has determined that this final rule is not a “significant regulatory action” subject to review by OMB under Executive Order 12866, entitled Regulatory Planning and Review (58 FR 51735, October 4, 1993).

B. Paperwork Reduction Act

This final rule does not contain any information collection requirements that require review and approval by OMB pursuant to the Paperwork Reduction Act of 1995 (PRA) (44 U.S.C. 3501 et seq.).

C. Regulatory Flexibility Act

Since this action falls under “rules of agency organization, procedure, or practice,” and the exception provided by 5 U.S.C. 553(b)(3)(A), it is not subject to notice and comment requirements under the APA or any other statute (see Unit II.B.) and is not subject to provisions of the Regulatory Flexibility Act (RFA) (5 U.S.C. 601 et seq.).

D. Unfunded Mandates Reform Act

This final rule is not subject to sections 202 and 205 of the Unfunded Mandates Reform Act of 1995 (UMRA) (Public Law 104-4) and does not significantly or uniquely affect small governments or impose a significant intergovernmental mandate, as described in sections 203 and 204 of UMRA.

E. Executive Order 13132: Federalism

This final rule will not have substantial direct effects on the States, on the relationship between the national government and the States, or on the distribution of power and responsibilities among the various levels of government, as specified in Executive Order 13132, entitled Federalism (64 FR 43255, August 10, 1999).

F. Executive Order 13175: Consultation and Coordination with Indian Tribal Governments

This action does not significantly or uniquely affect the communities of tribal governments as specified by Executive Order 13175, entitled Consultation and Coordination with Indian Tribal Governments (65 FR 67249, November 6, 2000).

G. Executive Order 13045: Protection of Children from Environmental Health Risks and Safety Risks

Because this action is not economically significant as defined by section 3(f) of Executive Order 12866, this action is not subject to Executive Order 13045, entitled Protection of Children from Environmental Health Risks and Safety Risks (62 FR 19885, April 23, 1997).

H. Executive Order 13211: Actions Concerning Regulations That Significantly Affect Energy Supply, Distribution, or Use

This final rule is not subject to Executive Order 13211, entitled Actions Concerning Regulations That Significantly Affect Energy Supply, Distribution, or Use (66 FR 28355, May 22, 2001), because this action is not expected to affect energy supply, distribution, or use.

I. National Technology Transfer and Advancement Act

This action does not involve any technical standards that require the Agency’s consideration of voluntary consensus standards pursuant to section 12(d) of the National Technology Transfer and Advancement Act of 1995 (NTTAA), Public Law 104-113, section 12(d) (15 U.S.C. 272 note).

J. Executive Order 12898: Federal Actions to Address Environmental Justice in Minority Populations and Low-Income Populations

This action will not result in environmental justice related issues and does not, therefore, require special consideration under Executive Order 12898, entitled Federal Actions to Address Environmental Justice in Minority Populations and Low-Income Populations (59 FR 7629, February 16, 1994).

IV. Congressional Review Act

The Congressional Review Act, 5 U.S.C. 801-808, generally provides that before a rule may take effect, the agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects

40 CFR Part 750

Environmental protection, Administrative practice and procedure, Chemicals, Hazardous substances.

40 CFR Part 761

Environmental protection, Hazardous substances, Labeling, Polychlorinated biphenyls (PCBs), Reporting and recordkeeping requirements.

Dated: September 28, 2007.
James B. Gulliford,
Assistant Administrator, Office of Prevention, Pesticides and Toxic Substances.

Therefore, 40 CFR chapter I is amended as follows:

PART 750—[AMENDED]

1. The authority citation for part 750 continues to read as follows:

Authority: 15 U.S.C. 2605.

2. In § 750.11, revise paragraph (b) to read as follows:

§ 750.11 Filing of petitions for exemption.

(b) Where to file. All petitions pertaining to:

(1) PCB use, which includes storage for use or reuse, manufacture, processing related to manufacture and use, and distribution in commerce related to use or processing for use, must be submitted to: OPPT Document Control Officer (7407T), Environmental Protection Agency, 1200 Pennsylvania Ave., NW., Washington, DC 20460-0001.

(2) PCB disposal, which includes cleanup, storage for disposal, processing related to disposal, distribution in commerce related to disposal or processing for disposal, and decontamination, must be submitted to: Document Control Officer, Office of Solid Waste (5305P), Environmental Protection Agency, 1200 Pennsylvania Ave., NW., Washington, DC 20460-0001.

3. In § 750.21, revise paragraph (b) to read as follows:

§ 750.21 Final rule.

(b) EPA will grant or deny petitions under section 6(e)(3)(B) of TSCA submitted pursuant to § 750.11. EPA will act on such petitions subsequent to opportunity for an informal hearing pursuant to this rule.

4. In § 750.31, revise paragraph (b) to read as follows:

§ 750.31 Filing of petitions for exemption.

(b) Where to file. All petitions pertaining to:

(1) PCB use, which includes storage for use or reuse, manufacture, processing related to manufacture and use, and distribution in commerce related to use or processing for use, must be submitted to: OPPT Document Control Officer (7407T), Environmental Protection Agency, 1200 Pennsylvania Ave., NW., Washington, DC 20460-0001.

(2) PCB disposal, which includes cleanup, storage for disposal, processing related to disposal, distribution in commerce related to disposal or processing for disposal, and decontamination, must be submitted to: Document Control Officer, Office of Solid Waste (5305P), Environmental Protection Agency, 1200 Pennsylvania Ave., NW., Washington, DC 20460-0001.

5. In § 750.34, revise paragraph (a)(5) to read as follows:

§ 750.34 Record.

(a) * * *

(5) Any other information that EPA considers to be relevant to such rule and that EPA identified, on or before the date of the promulgation of the rule, in a notice published in the Federal Register.

6. In § 750.41, revise paragraph (b) to read as follows:

§ 750.41 Final rule.

(b) EPA will grant or deny petitions under section 6(e)(3)(B) of TSCA submitted pursuant to § 750.31. EPA will act on such petitions subsequent to opportunity for an informal hearing pursuant to this rule.

PART 761—[AMENDED]

7. The authority citation for part 761 continues to read as follows:

Authority: 15 U.S.C. 2605, 2607, 2611, 2614, and 2616.

§ 761.19 [Amended]

8. By removing the phrase “TSCA Nonconfidential Information Center (7407), Rm. B607, Northeast Mall, Office of Pollution Prevention and Toxics, Environmental Protection Agency, 401 M St., SW., Washington, DC 20460” and adding in its place “EPA Docket Center (EPA/DC), Rm. 3334, EPA West Bldg., 1301 Constitution Ave., NW., Washington, DC 20460-0001” in § 761.19(b), introductory text.

§ 761.60 [Amended]

9. By removing the phrase “the Assistant Administrator for Prevention, Pesticides and Toxic Substances” and adding in its place “EPA” in § 761.60(b)(2)(v), first sentence of the introductory text.

10. By removing the phrase “the Assistant Administrator” and adding in its place “EPA” in § 761.60(b)(2)(v), second sentence of the introductory text.

11. By removing the phrase “The Assistant Administrator may permit disposal of PCB capacitors in EPA approved chemical waste landfills after March 1, 1981, if in his” and adding in its place “EPA may permit disposal of PCB capacitors in EPA-approved chemical waste landfills after March 1, 1981, if in its” in § 761.60(b)(2)(v), last sentence of the introductory text.

12. By removing the phrase “must submit a written request to either the EPA Regional Administrator or the Director, National Program Chemicals Division” and adding in its place “must submit a written request to either the Regional Administrator or the Director, Office of Solid Waste” in § 761.60(e), first sentence.

13. By removing the phrase “Requests for approval of alternate methods that will be operated in more than one Region must be submitted to the Director, National Program Chemicals Division” and adding in its place “Requests for approval of alternate methods that will be operated in more than one Region must submitted to the Director, Office of Solid Waste,” in § 761.60(e), second sentence.

14. By removing the phrase “On the basis of such information and any available information, the EPA Regional Administrator or the Director, National Program Chemicals Division may, in his or her discretion, approve the use of the alternate method if he or she” and adding in its place “On the basis of such information and any available information, EPA may, in its discretion, approve the use of the alternate method if it” in § 761.60(e), fifth sentence.

15. By removing the phrase “Any approval must be stated in writing and may include such conditions and provisions as the EPA Regional Administrator or Director, National Program Chemicals Division” and adding in its place “Any approval must be stated in writing and may include such conditions and provisions as EPA” in § 761.60(e), sixth sentence.

16. By removing the phrase “(the Director, National Programs Chemical Division and the Regional Administrators)” in § 761.60(i)(1).

17. By removing the phrase “Notwithstanding, the Director, National Programs Chemical Division may, at his/her” and adding in its place “Notwithstanding, EPA may, at its” in § 761.60(i)(1).

18. By removing the phrase “Office of Prevention, Pesticides and Toxic Substances” and adding in its place “Office of Solid Waste and Emergency Response” in § 761.60(i)(1).

19. By removing the phrase “the Director, National Program Chemicals Division” and adding in its place “EPA” in § 761.60(i)(2).

§ 761.61 [Amended]

20. By removing the phrase “must apply in writing to the EPA Regional Administrator in the Region where the sampling, cleanup, disposal or storage site is located, for sampling, cleanup, disposal or storage occurring in a single EPA Region; or to the Director of the National Program Chemicals Division” and adding in its place “must apply in writing to the Regional Administrator in the Region where the sampling, cleanup, disposal, or storage site is located, for sampling, cleanup, disposal, or storage occurring in a single EPA Region; or to the Director, Office of Solid Waste” in § 761.61(c)(1).

§ 761.62 [Amended]

21. By removing the phrase “must apply in writing to: the EPA Regional Administrator in the Region where the sampling, disposal, or storage site is located, for sampling, disposal, or storage occurring in a single EPA Region; or to the Director of the National Program Chemicals Division” and adding in its place “must apply in writing to the Regional Administrator in the Region where the sampling, disposal, or storage site is located, for sampling, disposal, or storage occurring in a single EPA Region; or to the Director, Office of Solid Waste” in § 761.62(c)(1).

§ 761.65 [Amended]

22. By removing the phrase “Director, National Program Chemicals Division,” and adding in its place “appropriate official at EPA Headquarters” in § 761.65(a)(3), first sentence.

23. By removing the phrase “Director, National Program Chemicals Division” and adding in its place “appropriate official at EPA Headquarters” in §§ 761.65(a)(3), last sentence; 761.65(a)(4); and 761.65(j), introductory text.

24. By removing the phrase “the Regional Administrator (or the Director of the Chemical Management Division (Director, National Programs Chemical Division) in cases involving commercial storage ancillary to a facility approved for disposal by the Director, National Programs Chemical Division)” and adding in its place “EPA” in § 761.65(d)(1).

25. By removing the phrase “(or the Director, National Programs Chemical Division, if the commercial storage area is ancillary to a facility approved for disposal by the Director, National Programs Chemical Division)” and adding in its place “(or the appropriate official at EPA Headquarters, if the commercial storage area is ancillary to a disposal facility for which an official at EPA Headquarters has approval authority)” in § 761.65(d)(2), introductory text.

26. By removing the phrase “by the Regional Administrator or the Director, National Programs Chemical Division,” in § 761.65(d)(2), introductory text.

27. By removing the phrase “(or the Director, National Programs Chemical Division, if the commercial storage is ancillary to a disposal facility permitted by the Director, National Programs Chemical Division)” and adding in its place “(or the appropriate official at EPA Headquarters, if the commercial storage area is ancillary to a disposal facility permitted by an official at EPA Headquarters)” in § 761.65(d)(2)(iv).

28. By removing the phrase “Regional Administrator (or Director, National Programs Chemical Division)” and adding in its place “appropriate EPA official” in § 761.65(d)(2)(vii).

29. By removing the phrase “the Regional Administrator (or the Director, National Programs Chemical Division, if the commercial storage area is ancillary to a disposal facility approved by the Director, National Programs Chemical Division)” and adding in its place “EPA” in §§ 761.65(d)(4), introductory text; 761.65(d)(4)(ii); 761.65(d)(4)(iv); and 761.65(e)(2).

30. By removing the phrase “shall be called in by the Regional Administrator or the Director, National Programs Chemical Division, if it was the Director, National Programs Chemical Division who issued it” and adding in its place “shall be called in by the Regional Administrator (or the appropriate official at EPA Headquarters, if approval was granted by an official at EPA Headquarters)” in § 761.65(d)(8).

31. By removing the phrase “may be submitted to the Regional Administrator or the Director, National Programs Chemical Division, in the cases where the Director, National Programs Chemical Division issued the approval” and adding in its place “may be submitted to the Regional Administrator or the Director, Office of Solid Waste, in the cases where an official at EPA Headquarters issued the approval” in § 761.65(d)(8).

32. By removing the phrase “(or the Director, National Programs Chemical Division, if the commercial storage area is ancillary to a disposal facility approved by the Director, National Programs Chemical Division)” and adding in its place “(or the appropriate official at EPA Headquarters, if the commercial storage area is ancillary to a disposal facility for which an official at EPA Headquarters has approval authority)” in §§ 761.65(e)(3) and 761.65(g)(4)(ii).

33. By removing the phrase “Director, National Programs Chemical Division, if he” and adding in its place “Director, Office of Solid Waste, if an official at EPA Headquarters” in § 761.65(e)(4), introductory text.

34. By removing the phrase “Director, National Programs Chemical Division, if he” and adding in its place “appropriate official at EPA Headquarters, if an official at EPA Headquarters” in § 761.65(e)(5).

35. By removing the phrase “Director, National Programs Chemical Division if he approved the closure plan” and adding in its place “Director, Office of Solid Waste, if an official at EPA Headquarters approved the closure plan” in § 761.65(e)(6)(i).

36. By removing the phrase “the Regional Administrator or the Director, National Programs Chemical Division if he approved the closure plan,” and adding in its place “EPA” in §§ 761.65(e)(6)(ii) and 761.65(e)(6)(iii).

37. By removing the phrase “the Regional Administrator or Director, National Programs Chemical Division if he approved the closure plan,” and adding in its place “EPA” in § 761.65(e)(6)(iv).

38. By removing the phrase “Director, National Programs Chemical Division if he” and adding in its place “Director, Office of Solid Waste and Disposal, if an official at EPA Headquarters” in § 761.65(e)(8).

39. By removing the phrase “the Regional Administrator (or the Director, National Programs Chemical Division, if he approved the closure plan)” and adding in its place “EPA” in § 761.65(f)(3).

40. By removing the phrase “(or the Director, National Programs Chemical Division, if the commercial storage area is ancillary to a disposal facility approved by the Director CMD)” and adding in its place “(or the Director, Office of Solid Waste, if the commercial storage area is ancillary to a disposal facility approved by an official at EPA Headquarters)” in § 761.65(g)(1)(ii).

41. By removing the phrase “the Regional Administrator or the Director, National Programs Chemical Division, if he approved the closure plan,” and adding in its place “EPA” in § 761.65(h), everywhere it appears.

42. By removing the phrase “The Regional Administrator or the Director, National Programs Chemical Division, if he approved the closure plan, shall provide the owner or operator with a detailed written statement stating the reasons why he” and adding in its place “EPA shall provide the owner or operator with a detailed written statement stating the reasons why EPA” in § 761.65(h).

§ 761.70 [Amended]

43. By removing the phrase “shall be approved by an EPA Regional Administrator or the Director, National Programs Chemical Division” and adding in its place “shall be approved by EPA” in § 761.70(a), introductory text.

44. By removing the phrase “more than one region must be submitted to the Director, National Programs Chemical Division” and adding in its place “more than one region must be submitted to the Director, Office of Solid Waste” in §§ 761.70(a), introductory text and 761.70(b), introductory text.

45. By removing the phrase “Director, National Programs Chemical Division” and adding in its place “appropriate official at EPA Headquarters” in §§ 761.70(a)(7), last sentence and 761.70(a)(8), introductory text.

46. By removing the phrase “the appropriate EPA Regional Administrator or the Director, National Programs Chemical Division” and adding in its place “EPA” in § 761.70(a)(9).

47. By removing the phrase “the Regional Administrator or the Director, National Programs Chemical Division” and adding in its place “EPA” in §§ 761.70(a)(9), 761.70(d)(2)(i), everywhere it appears; 761.70(d)(2)(iii), everywhere it appears; and 761.70(d)(4)(ii), everywhere it appears.

48. By removing the phrase “The Regional Administrator or the Director, National Programs Chemical Division” and adding in its place “EPA” in § 761.70(d)(2)(i).

49. By removing the phrase “shall be approved by the appropriate EPA Regional Administrator or the Director, National Programs Chemical Division” and adding in its place “shall be approved by EPA” in § 761.70(b), introductory text.

50. By removing the phrase “Director, National Programs Chemical Division” and adding in its place “appropriate official at EPA Headquarters” in §§ 761.70(d), introductory text, everywhere it appears and 761.70(d)(4)(i).

51. By removing the phrase “Director, National Programs Chemical Division” and adding in its place “Director, Office of Solid Waste” in § 761.70(d)(1), introductory text.

52. By removing the phrase “If the Regional Administrator or the Director, National Programs Chemical Division determines” and adding in its place “If EPA determines” in § 761.70(d)(2)(ii), introductory text.

53. By removing the phrase “shall submit to the Regional Administrator or the Director, National Programs Chemical Division” and adding in its place “shall submit to the Regional Administrator or the Director, Office of Solid Waste” in § 761.70(d)(2)(ii), introductory text.

54. By removing the phrase “the Regional Administrator or the Assistant Administrator for Prevention, Pesticides and Toxic Substances” and adding in its place “EPA” in § 761.70(d)(3), everywhere it appears .

55. By removing the phrase “may submit evidence to the Regional Administrator or the Director, National Programs Chemical Division” and adding in its place “may submit evidence to the Regional Administrator or the Director, Office of Solid Waste” in § 761.70(d)(5), first sentence.

56. By removing the phrase “the Regional Administrator or the Director, National Programs Chemical Division may in his/her discretion” and adding in its place “EPA may, in its discretion,” in § 761.70(d)(5), second sentence.

57. By removing the phrase “Regional Administrator or the Director, National Programs Chemical Division” and adding in its place “appropriate EPA official” in § 761.70(d)(7).

§ 761.79 [Amended]

58. By removing the phrase “must apply in writing to the EPA Regional Administrator in the Region where the activity would take place, for decontamination activity occurring in a single EPA Region; or the Director of the National Program Chemicals Division” and adding in its place “must apply in writing to the Regional Administrator in the Region where the activity would take place, for decontamination activity occurring in a single EPA Region; or to the Director, Office of Solid Waste” in §§ 761.79(h)(1), 761.79(h)(2), and 761.79(h)(3).

§ 761.120 [Amended]

59. By removing the phrase “Director, Office of Pollution Prevention and Toxics at Headquarters” and adding in its place “Director, Office of Solid Waste” in § 761.120(a)(3).

60. By removing the phrase “Director, Office of Pollution Prevention and Toxics” and adding in its place “Director, Office of Solid Waste” in § 761.120(b), introductory text.

61. By removing the phrase “Director of the Office of Pollution Prevention and Toxics” and adding in its place “Director, Office of Solid Waste” in § 761.120(b)(2).

62. By removing the phrase “Director of OPPT” and adding in its place “Director, Office of Solid Waste” in § 761.120(c), everywhere it appears.

§ 761.125 [Amended]

63. By removing the phrase “(the Office of Prevention, Pesticides and Toxic Substances Branch)” in §§ 761.125(a)(1)(i) and 761.125(a)(1)(ii).

64. By removing the phrase “(Pesticides and Toxic Substances Branch)” in § 761.125(a)(1)(iii).

§ 761.130 [Amended]

65. By removing the phrase “from the Director, Environmental Assistance Division (7408), Office of Pollution Prevention and Toxics, U.S. Environmental Protection Agency, Room E-543B, 1200 Pennsylvania Ave., NW., Washington, DC 20460, Telephone: (202) 544-1404, TDD (202) 544-0551” and adding in its place “on EPA’s PCB Web site at http://www.epa.gov/pcb, or from the Communications, Information and Resource Management Division, Office of Solid Waste (5305P), Environmental Protection Agency, 1200 Pennsylvania Ave., NW., Washington, DC 20460-0001” in § 761.130(e).

§ 761.205 [Amended]

66. By removing the phrase “from the Operation Branch (7404), Office of Pollution Prevention and Toxics, Environmental Protection Agency, 401 M St. SW., Washington, DC 20460” and adding in its place “on EPA’s PCB Web site at http://www.epa.gov/pcb, or from the Communications, Information and Resource Management Division, Office of Solid Waste (5305P), Environmental Protection Agency, 1200 Pennsylvania Ave., NW., Washington, DC 20460-0001” in § 761.205(a)(3).

67. By removing the phrase “Chief, Operation Branch (7404), Office of Pollution Prevention and Toxics, Environmental Protection Agency, 1200 Pennsylvania Ave., NW., Washington, DC 20460” and adding in its place “Document Control Officer, Office of Solid Waste (5305P), Environmental Protection Agency, 1200 Pennsylvania Ave., NW., Washington, DC 20460-0001” in § 761.205(d).

§§ 761.243 and 761.386 [Amended]

68. By removing the phrase “from the TSCA Assistance Information Service, Environmental Protection Agency, 1200 Pennsylvania Ave., NW., Washington, DC 20460” and adding in its place “on EPA’s PCB Web site at http://www.epa.gov/pcb, or from the Communications, Information and Resource Management Division, Office of Solid Waste (5305P), Environmental Protection Agency, 1200 Pennsylvania Ave., NW., Washington, DC 20460-0001” in §§ 761.243(a) and 761.386(e).

§ 761.398 [Amended]

69. By removing the phrase “Director, National Program Chemicals Division (NPCD), (7404), Office of Pollution Prevention and Toxics, 1200 Pennsylvania Ave., NW., Washington, DC” and adding in its place “Director, Office of Solid Waste (5301P), Environmental Protection Agency, 1200 Pennsylvania Ave., NW., Washington, DC 20460-0001” in § 761.398(a).

70. By removing the phrase “the Director of NPCD” and adding in its place “EPA” in § 761.398(a).

[FR Doc. E7-19841 Filed 10-5-07; 8:45 am]

BILLING CODE 6560-50-S